DEPARTMENT OF COMMERCE

National Oceanic and Atmospheric Administration

RIN 0648-XE692

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the Atlantic bigeye tuna stock is subject to overfishing. In addition, Gulf of Mexico gray triggerfish and Gulf of Mexico red snapper continue to be overfished. NMFS, on behalf of the Secretary, notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Regina Spallone, (301) 427-8568.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is overfished or approaching an overfished condition; or if an existing rebuilding plan has not ended overfishing or resulted in adequate rebuilding progress. NMFS also notifies Councils when it determines a stock or stock complex is subject to overfishing. Section 304(e)(2) further requires NMFS to publish these notices in the Federal Register.

NMFS has determined that the Atlantic bigeye tuna stock is subject to overfishing, based on a 2015 stock assessment conducted by the Standing Committee on Research and Statistics (SCRS), which is the scientific body of the International Commission for the Conservation of Atlantic Tunas (ICCAT). The 2015 assessment also resulted in a determination of “not overfished—rebuilding” under the applicable domestic status determination criteria. NMFS manages Atlantic bigeye tuna under its 2006 Consolidated Atlantic Highly Migratory Species (HMS) Fishery Management Plan and amendments, consistent with the Magnuson-Stevens Act and the Atlantic Tunas Convention Act (ATCA), 16 U.S.C. 971 et seq., and ICCAT's “Multi-Annual Conservation and Management Program,” adopted in 2010.

NMFS has also determined that Gulf of Mexico gray triggerfish and Gulf of Mexico red snapper continue to be overfished. The Gulf of Mexico Fishery Management Council has been informed that they must rebuild these stocks.

Dated: July 14, 2016.
Emily H. Menashes,
Acting Director, Office of Sustainable Fisheries, National Marine Fisheries Service.

[FR Doc. 2016-17163 Filed 7-20-16; 8:45 am]

BILLING CODE 3510-22-P